NUCLEAR REGULATORY COMMISSION

[NRC-2014-0001]

Sunshine Act Meeting Notice

DATES: Weeks of November 10, 17, 24, December 1, 8, 15, 2014.

PLACE: Commissioners' Conference Room, 11555 Rockville Pike, Rockville, Maryland.

STATUS: Public and Closed.

Week of November 10, 2014

Thursday, November 13, 2014

9:30 a.m. Strategic Programmatic Overview of the Nuclear Material Users and the Fuel Facilities Business Lines (Public Meeting) (Contact: Cinthya Roman, 301-287-9091)

This meeting will be webcast live at the Web address— http://www.nrc.gov/.

1:30 p.m. Discussion of Management and Personnel Issues (Closed—Ex. 2 and 6)

2:45 p.m. Discussion of International Activities (Closed—Ex. 9)

Week of November 17, 2014—Tentative

Thursday, November 20, 2014

9:30 a.m. Briefing on Project Aim 2020 (Closed—Ex. 2)

Week of November 24, 2014—Tentative

There are no meetings scheduled for the week of November 24, 2014.

Week of December 1, 2014—Tentative

There are no meetings scheduled for the week of December 1, 2014.

Week of December 8, 2014—Tentative

Thursday, December 11, 2014

9:30 a.m. Briefing on Equal Employment Opportunity, Diversity, and Small Business Programs (Public Meeting) (Contact: Larniece McKoy Moore, 301-415-1942)

This meeting will be webcast live at the Web address— http://www.nrc.gov/.

Week of December 15, 2014—Tentative

Tuesday, December 16, 2014

9:00 a.m. Update on Research and Test Reactor Initiatives (Public Meeting) (Contact: Alexander Adams, 301-415-1127)

This meeting will be webcast live at the Web address— http://www.nrc.gov/.

* * * * *

The schedule for Commission meetings is subject to change on short notice. For more information or to verify the status of meetings, contact Glenn Ellmers at (301) 415-0442 or via email at Glenn.Ellmers@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Patricia.Jimenez@nrc.gov or Brenda.Akstulewicz@nrc.gov

Dated: November 6, 2014.
Glenn Ellmers,
Policy Coordinator, Office of the Secretary.

[FR Doc. 2014-26776 Filed 11-6-14; 4:15 pm]

BILLING CODE 7590-01-P